DEPARTMENT OF HOMELAND SECURITY

Coast Guard

33 CFR Part 165

[CGD09-03-202]

RIN 1625-AA00

Safety Zones; Northeast Ohio

AGENCY: Coast Guard, DHS.

ACTION: Final rule.

SUMMARY: The Coast Guard is establishing safety zones for annual fireworks displays located in Northeast Ohio. These regulations are needed to manage vessel traffic in Northeast Ohio during each event to protect life and property.

DATES: This rule is effective from July 1, 2004.

ADDRESSES: Comments and material received from the public, as well as documents indicated in this preamble as being available in the docket, will become part of this docket and available for inspection or copying at Coast Guard MSO Cleveland between 8 a.m. (local) and 3:30 p.m. (local), Monday through Friday, except Federal holidays.

FOR FURTHER INFORMATION CONTACT: Lieutenant Allen Turner, U.S. Coast Guard Marine Safety Office Cleveland, at (216) 937-0128.

SUPPLEMENTARY INFORMATION:

Regulatory Information

On April 1, 2003, we published a notice of public rulemaking entitled Safety Zones: Northeast Ohio in the Federal Register (68 FR 62). No comments on the proposed rule were received. No public hearing was requested, and none was held. Under 5 U.S.C. 553(d)(3), the Coast Guard finds that good cause exists for making this rule effective less than 30 days after publication in the Federal Register since we received no public comment, and the zones are needed immediately to protect life and property.

Background and Purpose

A total of eight permanent safety zones are being established in Northeast Ohio for annual firework displays. The safety zones will be enforced only during a firework display at their respective location. There are a total of ten separate annual firework events in Northeast Ohio.

Discussion of Rule

The safety zones will be enforced around the launch site in the following areas:

(1) Cleveland Harbor and Lake Erie, north of Voinovich Park;

(2) Rocky River and Lake Erie, west of the river entrance;

(3) Lake Erie, North of Lakewood Park;

(4) Black River (2 locations);

(5) Mentor Harbor Beach, west bank of harbor entrance;

(6) Ashtabula, north of Walnut Beach Park; and

(7) Fairport Harbor, east of harbor entrance.

The size of each safety zone was determined using National Fire Protection Association and local fire department standards.

Regulatory Evaluation

This rule is not a “significant regulatory action” under section 3(f) of Executive Order 12866 and does not require an assessment of potential costs and benefits under section 6(a)(3) of that order. The Office of Management and Budget has not reviewed this rule under that order. It is not significant under the regulatory policies and procedures of the Department of Homeland Security (DHS). We expect the economic impact of this rule to be so minimal that a full Regulatory Evaluation under the regulatory policies and procedures of DHS is unnecessary.

This determination is based on the short amount of time that vessels will be restricted from the zones, and the actual location of the safety zones within the waterways.

Small Entities

Under the Regulatory Flexibility Act (5 U.S.C. 601-612), we have considered whether this rule would have a significant impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule may affect the following entities, some of which might be small entities: The owners or operators of commercial vessels intending to transit a portion of a safety zone.

These safety zones will not have a significant economic impact on a substantial number of small entities for the following reasons: The zones will only be enforced for a few hours on the day of the event. Vessel traffic can safely pass outside the safety zones during the events. In cases where recreational boat traffic congestion is greater than expected and consequently obstructs shipping channels, the Captain of the Port or the Patrol Commander may permit commercial traffic to pass through the safety zone. Before the enforcement period, the Coast Guard will issue maritime advisories available to users who may be impacted through notification in the Federal Register, the Ninth Coast Guard District Local Notice to Mariners, Marine Information Broadcasts and posted signs on barges or at launch sites labeled “FIREWORKS-STAY AWAY”. Additionally, the Coast Guard has not received any reports from small entities negatively affected during previous events.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this rule so that they can better evaluate its effects and participate in the rulemaking process. If the rule will affect your small business, organization, or governmental jurisdiction and you have questions concerning its provisions or options for compliance, please contact Marine Safety Office Cleveland (see ADDRESSES).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule does not result in such an expenditure, we do discuss the effects of this rule elsewhere in this preamble.

Taking of Private Property

This rule does not effect a taking of private property or otherwise have taking implications under Executive Order 12630, Governmental Actions and Interference with Constitutionally Protected Property Rights.

Civil Justice Reform

This rule meets applicable standards in sections 3(a) and 3(b) (2) of Executive Order 12988, Civil Justice Reform, to minimize litigation, eliminate ambiguity, and reduce burden.

Protection of Children

The Coast Guard has analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

The Coast Guard has analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph 34(g) of Commandant Instruction M16475.1D, this rule is categorically excluded from further environmental documentation. A written categorical exclusion determination is available in the docket for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

2. Add § 165.202 to read as follows:

§ 165.202 Safety Zones: Annual fireworks Events in the Captain of the Port Cleveland Zone.

(a) Safety zones. The following areas are designated safety zones:

(1) City of Cleveland 4th of July Fireworks Display, Cleveland, OH: All navigable waters of Cleveland Harbor and Lake Erie beginning at 41°30.823′ N, 081°41.620′ W (the northwest corner of Burke Lakefront Airport); continuing northwest to 41°31.176 N, 081°41.884′ W; then southwest to 41°30.810′ N, 081°42.515′ W; then southeast to 41°30.450′ N, 081°42.222′ W (the northwest corner of dock 28 at the Cleveland Port Authority) then northeast back to the starting point at 41°30.443′ N, 081°41.620′ W. All geographic coordinates are based upon North American Datum 1983 (NAD 1983).

(2) Dollar Bank Jamboree Fireworks Display, Cleveland, OH: All navigable waters of Cleveland Harbor and Lake Erie beginning at 41°30.823′ N, 081°41.620′ W (the northwest corner of Burke Lakefront Airport); continuing northwest to 41°31.176 N, 081°41.884′ W; then southwest to 41°30.810′ N, 081°42.515′ W; then southeast to 41°30.450′ N, 081°42.222′ W (the northwest corner of dock 28 at the Cleveland Port Authority) then northeast back to the starting point at 41°30.443′ N, 081°41.620′ W (NAD 1983).

(3) Browns Football Halftime Fireworks Display, Cleveland, OH: All navigable waters of Cleveland Harbor and Lake Erie beginning at 41°30.823′ N, 081°41.620′ W (the northwest corner of Burke Lakefront Airport); continuing northwest to 41°31.176 N, 081°41.884′ W; then southwest to 41°30.810′ N, 081°42.515′ W; then southeast to 41°30.450′ N, 081°42.222′ W (the northwest corner of dock 28 at the Cleveland Port Authority) then northeast back to the starting point at 41°30.443′ N, 081°41.620′ W (NAD 1983).

(4) Lakewood City Fireworks Display, Lakewood, OH: All waters and adjacent shoreline of Lake Erie bounded by the arc of a circle with a 500-yard radius with its center approximate position 41°29.755′ N, 081°47.780′ W (off of Lakewood Park) (NAD 1983).

(5) Cleveland Yachting Club Fireworks Display, Rocky River, OH: All waters and adjacent shoreline of the Rocky River and Lake Erie bounded by the arc of a circle with a 200-yard radius with its center at Sunset Point on the western side of the mouth of the Rocky River in approximate position 41°29.428′ N, 081°50.309′ W (NAD 1983).

(6) Lorain 4th of July Celebration Fireworks Display, Lorain, OH: The waters of Lorain Harbor bounded by the arc of a circle with a 300-yard radius with its center east of the harbor entrance on the end of the break wall near Spitzer's Marina in approximate position 41°28.591′ N, 082°10.855′ W (NAD 1983).

(7) Lorain Port Fest Fireworks Display, Lorain, OH: All waters and adjacent shoreline of Lorain Harbor bounded by the arc of a circle with a 250-yard radius with its center at approximate position 41°28.040′ N, 082°10.365′ W (NAD 1983).

(8) Mentor Harbor Yacht Club Fireworks Display, Mentor, OH: All waters and adjacent shoreline of Lake Erie and Mentor Harbor bounded by the arc of a circle with a 200-yard radius with its center in approximate position 41°43.200′ N, 081°21.400′ W (west of the harbor entrance) (NAD 1983).

(9) Fairport Mardi Gras Fireworks Display, Fairport Harbor, OH: All waters and adjacent shoreline of Fairport Harbor and Lake Erie bounded by the arc of a circle with a 300-yard radius with its center east of the harbor entrance at Fairport Harbor Beach in approximate position 41°45.500′ N, 081°16.300′ W (NAD 1983).

(10) Ashtabula Area Fireworks Display, Ashtabula, OH: All waters and adjacent shoreline of Lake Erie and Ashtabula Harbor bounded by the arc of a circle with a 300-yard radius with its center west of the harbor in approximate position 41°54.167′ N, 080°48.416′ W (NAD 1983).

(b) Notification. Captain of the Port Cleveland will cause notice of the enforcement of these safety zones to be made by all appropriate means to effect the widest publicity among the affected segments of the public, including publication on the local notice to mariners, marine information broadcasts, and facsimile. Fireworks barges used in these locations will also have a sign on their port and starboard side labeled “FIREWORKS-STAY AWAY”. This sign will consist of 10″ high by 1.5″ wide red lettering on a white background. Shore sites used in these locations will display a sign labeled “FIREWORKS-STAY AWAY” with the same dimensions.

(c) Enforcement period. This section will be enforced from 6 p.m. (local) to 1 a.m. (local) each day a barge with “FIREWORKS-STAY AWAY” sign on the port and starboard side is on-scene or a “FIREWORKS-STAY AWAY” sign is posted in a location listed in paragraph (a) of this section. Vessels may enter, remain in, or transit through these safety zones during this time frame if authorized by the Captain of the Port Cleveland or the designated Coast Guard Patrol Commander on scene.

(d) Regulations. (1) The general regulations contained in 33 CFR 165.23 apply.

(2) All persons and vessels shall comply with the instructions of the Coast Guard Captain of the Port or the designated on scene Patrol Commander. Coast Guard patrol personnel include commissioned, warrant, and petty officers of the U.S. Coast Guard. Upon being hailed by a U.S. Coast Guard vessel via siren, radio, flashing light, or other means, the operator shall proceed as directed.

(3) Several of the safety zones in this regulation encompass portions commercial navigation channels but are not expected to adversely affect shipping. In cases where shipping is affected, commercial vessels may request permission from the Patrol Commander or Captain of the Port to transit the safety zone. Approval will be made on a case-by-case basis. Requests must be made in advance and approved by the Captain of the Port before transits will be authorized. The Captain of the Port may be contacted via the U.S. Coast Guard Patrol Commander (PAT COM) on Channel 16, VHF-FM.

Dated: June 21, 2004.
Lorne W. Thomas,
Commander, U.S. Coast Guard, Captain of the Port Cleveland.

[FR Doc. 04-16651 Filed 7-21-04; 8:45 am]

BILLING CODE 4910-15-P